DEPARTMENT OF EDUCATION

34 CFR Chapter II

[Docket ID ED-2021-OESE-0122]

Final Priorities, Requirements, and Definition—Project Prevent Grant Program

AGENCY: Office of Elementary and Secondary Education, Department of Education.

ACTION: Final priorities, requirements, and definition.

SUMMARY: The Department of Education (Department) announces final priorities, requirements, and a definition under the Project Prevent grant program, Assistance Listing Number (ALN) 84.184M. We may use one or more of these priorities, requirements, and definition for competitions in fiscal year (FY) 2022 and later years. These final priorities and requirements are designed to fund local educational agencies (LEAs) impacted by community violence and expand the capacity of LEAs to implement community- and school-based strategies that prevent and mitigate the impact of community violence. The Department also defines “community violence” for purposes of the Project Prevent grant program.

DATES: These priorities, requirements, and definition are effective September 19, 2022.

FOR FURTHER INFORMATION CONTACT: Nicole White, U.S. Department of Education, 400 Maryland Avenue SW, Room 3E326, Washington, DC 20202. Telephone: (202) 453-6729. Email: Project.Prevent@ed.gov.

If you are deaf, hard of hearing, or have a speech disability and wish to access telecommunications relay services, please dial 7-1-1.

SUPPLEMENTARY INFORMATION:

Executive Summary

Purpose of this Regulatory Action: Exposure of children and youth to community violence, whether as victims, justice-involved youth, or witnesses, is associated with long-term physical, psychological, and emotional harms. Community violence, which is defined in this document, is a significant public health, public safety, and community infrastructure concern nationwide, and is a leading cause of death, injury, and intergenerational trauma for people in the United States. School programs facilitated by counselors, mental health providers, and community leaders for students who have been exposed to or are at high risk of involvement in community violence have been shown to help students develop the social and emotional skills needed to navigate difficult circumstances inside and outside of school, so that they are able to problem solve, de-escalate conflict, and reengage in school. These final priorities, requirements, and definition are aligned with capacity-building approaches to addressing the harmful effects of community violence.

Summary of the Major Provisions of this Regulatory Action: Through this regulatory action, we establish three priorities, program and application requirements, and an associated definition.

Costs and Benefits: The final priorities, requirements, and definition will impose minimal costs on entities that receive assistance through the Department's discretionary grant programs. Application submission and participation in a discretionary grant program are voluntary. The Secretary believes that the costs imposed on applicants by the final priorities are limited to paperwork burden related to preparing an application for a discretionary grant program that uses one or more of the final priorities in its competition. Because the costs of carrying out activities will be paid for with program funds, the costs of implementation will not be a burden for any eligible applicants, including small entities. We believe that the benefits of this regulatory action outweigh any associated costs because it will result in the submission of a greater number of high-quality discretionary grant applications and supporting activities that reflect the administration's education priorities.

Purpose of Program: The Project Prevent grant program provides grants to LEAs to increase their capacity to implement community- and school-based strategies to help prevent community violence and mitigate the impacts of exposure to community violence. Project Prevent grant funds allow LEAs to increase their capacity to identify, assess, and serve students exposed to community violence, helping LEAs to (1) offer affected students mental health services; (2) support conflict management programs; and (3) implement other community- and school-based strategies to help prevent community violence and to mitigate the impacts of exposure to community violence.

Program Authority: 20 U.S.C. 7281.

We published a notice of proposed priorities, requirements, and definition (NPP) in the Federal Register on January 28, 2022 (87 FR 4522). The priorities included in the NPP were: Proposed Priority 1—Addressing the Impacts of Community Violence; Proposed Priority 2—Established Partnership with a Local Community-Based Organization; and Proposed Priority 3—Supporting Children and Youth from Low-Income Backgrounds. The NPP contained background information and our reasons for proposing the priorities, requirements, and definition. There is no difference between the proposed and final Priority 1. As discussed in the Analysis of Comments and Changes section, we made a substantive change to Priorities 2 and 3 and both substantive and editorial changes to the application requirements and definition.

Public Comment: In response to our invitation in the NPP, 33 parties submitted comments, which, in total, addressed all three of the proposed priorities, as well as the requirements and definition. Three comments were not relevant to the proposed priorities, requirements, or definition and are not included in the discussions below. We group major issues according to subject. Generally, we do not address technical and other minor changes, or suggested changes that the law does not authorize us to make under the applicable statutory authority.

Many commenters expressed general support for all of the proposed priorities.

Analysis of Comments and Changes: An analysis of the comments and of any changes in the priorities, requirements, and definition since publication of the NPP follows.

General Comments

Comment: One commenter suggested that the Department provide targeted outreach to LEAs that have less awareness about Project Prevent and less capacity to complete the grant application.

Discussion: The Department appreciates this comment. To garner a diverse pool of applicants, the Department routinely assists potential applicants by offering technical assistance and pre-application workshops, and, as needed, responding to frequently asked questions. This information is made available on the program web page referenced in the Notice Inviting Applications and included in the Department's outreach. General resources about applying for a Department of Education grant are available on the Department's website at https://www2.ed.gov/fund/grants-apply.html?src=ft. Program-specific information, including pre-application materials, are available for Project Prevent at https://oese.ed.gov/offices/office-of-formula-grants/safe-supportive-schools/project-prevent-grant-program/.

Changes: None.

Comment: In addition to the existing priorities, one commenter suggested creating new priorities. Specifically, the commenter suggested priorities for eliminating police in schools and establishing alternatives for school safety.

Discussion: The Department fully acknowledges the concerns underlying this comment. The Department believes applicants are in the best position to determine whether and how to address the impacts of community violence by developing partnerships with law enforcement that are effective, inclusive, and free from bias.

Changes: None.

Comment: One commenter recommended adding a program requirement that holds LEAs accountable if they fail to, among other things, provide services that improve coordination of intervention programs, provide high-quality training, develop and implement transformative justice approaches, protect the privacy of individuals, adopt policies to prevent the perpetuation of discrimination, and involve a broad group of community stakeholders. The commenter recommended increased oversight, withholding of funds, or denial of continuation awards if LEAs failed to meet these goals.

Discussion: All grantees are bound by applicable law regarding privacy and non-discrimination. In addition, the Department agrees that accountability for grant implementation is essential. We believe that the Department's existing procedures and administrative requirements adequately address these concerns. For example, grantees are held accountable to goals and objectives in their approved applications. In addition to routine monitoring by a Federal project officer throughout the award period, grantees must submit annual reports to the Department that provide details on implementation, budget, and evaluation of the program. Through continuous monitoring and review of submitted reports and documentation, the Department determines if a grantee has made substantial progress toward meeting its goals and objectives. Determination of substantial progress determines whether an LEA will receive a continuation award.

Changes: None.

Priority 1—Addressing the Impacts of Community Violence

Comment: Some commenters stated that mental health services offered to students should explicitly prioritize students' access to developing social, self-regulation, and problem-solving skills.

Discussion: The Department appreciates the suggestion that mental health services offered to students should prioritize skills needed to regulate emotions and problem solve. We believe the proposed application requirements already allow for this skill development. Specifically, application requirement (d)(1)(i) requires applicants to propose strategies and interventions that enhance student knowledge and interpersonal and emotional skills regarding positive behavior such as communication and problem-solving; empathy; and conflict management, de-escalation, and mediation.

Changes: None.

Comment: Two commenters suggested that mental health awareness education should be included in the language of the notice. Several commenters stated that mental health services for students and families should be included and emphasized in Priority 1. One commenter suggested making mental health services available privately, outside of school.

Discussion: The Department agrees that mental health services are integral to helping students and communities address the impacts of community violence. The Department also agrees that students should be screened for mental health needs, and that services should be administered in a manner that is equitable and inclusive, including culturally and linguistically competent, and does not cause further harm. In light of existing provisions that already give applicants the flexibility to address the commenters' concerns, the Department does not believe that further specificity regarding specific skills or specific targeted groups is necessary. For example, although paying for private mental health services is not an allowable expense under this program, this program allows grantees to engage in activities to raise awareness about the positive impacts of mental health education, and mental health services for students that are integrated into a school's overall program, including appropriate screening for these services, are allowable and encouraged.

Changes: The Department has also added language to application requirements (c)(2), (c)(5), (d)(1), and (e)(3)(i) and (ii) that emphasizes the importance of cultural and linguistic competence in activities, programs, and practices.

Comment: One commenter suggested including reference to minority, rural, and recent refugee populations in Priority 1 given their increased vulnerability to mental health issues. Another commenter recommended project activities that are culturally tailored to address mental health issues.

Discussion: The Department agrees that certain populations are particularly vulnerable to community violence and its impacts, and that activities and interventions must be available in a manner that is equitable and inclusive and responsive to the cultural and linguistic diversity of the student population.

Changes: The Department has added language to application requirement (d)(1)(i), stating that interventions and activities must be available to all students in a school in a manner that is equitable and inclusive. The Department has also added language to application requirements (c)(2), (c)(5), (d)(1), and (e)(3)(i) and (ii) that emphasizes the importance of cultural and linguistic competence in activities, programs, and practices.

Comment: Two commenters suggested that applicants commit to dedicated restorative practices, and one commenter suggested applicants commit to social emotional learning programming.

Discussion: The Department agrees that restorative practices as well as social emotional learning programming can be components of an effective program to mitigate community practices. Because both restorative practices and social emotional learning are allowable activities under this program, the Department does not believe any changes are necessary.

Changes: None.

Priority 2—Established Partnership With a Local Community-Based Organization (CBO)

Comment: One commenter recommended requiring that CBOs demonstrate a history of school and community engagement. The commenter further recommended requiring a detailed plan that describes how the CBO will communicate and collaborate with schools on programming and how it will engage authentically with the target community. Additionally, the commenter suggested adding key engagement strategies or shared values between the LEA applicant and CBO that all applicants should address as part of program implementation. One commenter recommended that the Department take into consideration the barriers that exist in obtaining memoranda of agreement/memoranda of understanding (MOAs/MOUs) in certain communities. One commenter suggested requiring that MOAs/MOUs be made available and accessible to the public. One commenter suggested evaluations of partner organizations to ensure they are suited for the work they will be doing.

Discussion: The Department agrees that an effective LEA/CBO partnership requires a detailed plan to engage the target community. The Department does not agree that changes to the requirements are needed, because the program's application requirements already require applicants to describe how they intend to work collaboratively with CBOs to achieve shared project goals and objectives. Applications are peer-reviewed and scored based on how well they address application requirements. Moreover, LEAs have the discretion to choose their CBO partners based on LEA needs and the approved application, and thus are in best position to determine what historical level of school and community engagement is appropriate in the LEA/CBO relationship.

While the Department understands that barriers to obtaining MOAs/MOUs sometimes exist, we believe the benefit of having MOAs/MOUs outweighs these barriers. We will make every attempt, when conducting grant competitions, to offer a longer application window so that applicants have time to secure partnerships that will yield the highest results. Finally, we encourage grantees to make their MOAs/MOUs available and accessible to the public. We believe this should be discretionary, rather than mandatory, because the program application already requires applicants to describe LEA and CBO roles and responsibilities with respect to the goals and objectives of the approved application.

Changes: None.

Comment: One commenter recommended stating specifically that nonprofit organizations can be considered local CBOs for purposes of this program.

Discussion: The Department appreciates this comment and agrees it would be helpful to clarify that local CBOs include nonprofit organizations. The Department will use the definition of “community-based organization” from section 8101(5) of the Elementary and Secondary Education Act (ESEA), as amended.

Changes: The Department has incorporated the ESEA definition of “community-based organization” into Priority 2.

Priority 3—Supporting Children and Youth From Low-Income Backgrounds

Comments: Three commenters remarked on the potential impact of Priority 3. Specifically, these commenters suggested modifying Priority 3 to use poverty data at the school level instead of Small Area Income and Poverty Estimates (SAIPE) data, which is at the LEA level. According to the commenters, setting the low-income classification at the school level instead of the LEA level may allow for more targeted grant funding.

Discussion: We thank the commenters for this suggestion. Although SAIPE data is not available at the school level and we are unable to identify another source of data that we think is uniform across LEAs, we agree that averaging poverty rates across an LEA might exclude LEAs with high poverty rates in individual schools.

Changes: We have added a new level to Priority 3, to include proposed projects in which at least 20 percent of the students enrolled in the LEA that will be served by the proposed project are from families with an income below the poverty line. This new level is intended to reduce the effects of any masking that might be caused by averaging poverty rates across the LEA.

Eligible Applicants

Discussion: One commenter recommended expanding the definition of eligible applicants to include CBOs or nonprofit organizations in partnership with LEAs, noting that there is only one eligible applicant in Hawaii and Puerto Rico due to the structure of their educational system. The commenter believes these entities are unfairly disadvantaged from receiving Federal competitive grants.

Discussion: The Department appreciates the commenter's suggestion but does not agree to expand eligible applicants to include CBOs. Given the central role that schools play in their communities and the activities we envision for Project Prevent grantees, we believe LEAs are best positioned to be the eligible applicants for this program. An LEA has direct, daily contact with students and is uniquely positioned, through Federal and State laws, to impact student services.

Changes: None.

Application Requirements

Comment: Several commenters suggested that this program should explicitly outline how applicant proposals will address implicit biases in referring students for services.

Discussion: The Department agrees that referring and screening students for mental health services should be carried out in a manner that is equitable and inclusive, including culturally and linguistically competent and identity-safe, and does not cause further harm. We have added language to the application requirements to address this comment.

Changes: The Department has added language to application requirement (c)(3), requiring applicants to describe how they will screen students in a manner that minimizes bias and stereotypes.

Comment: One commenter stated that, in finalizing the application requirements, specifically the “project activities,” the Department should include specific references to LGBTQ+ students, BIPOC students, and students with disabilities.

Discussion: The Department recognizes that equity in education should provide all students, from all backgrounds, with the resources and supports they need to succeed and thrive in our society. The Department has implemented the two changes described below to address the commenter's concerns.

Changes: Application requirement (d)(1)(i) has been revised to require that interventions and activities are available to all students in a school, in a manner that is equitable and inclusive, including culturally and linguistically competent. Additionally, language has been added to application requirements (c)(2), (c)(5), (d)(1), and (e)(3)(i) and (ii) that emphasizes the importance of activities, programs, and practices that are “culturally and linguistically competent” and that these services should be supported by increasing the diversity of staff, including hiring staff from underrepresented backgrounds.

Comment: One commenter recommended requiring applicants to demonstrate a racial equity framework such that people with lived experiences or those who historically have been excluded become the center of program development, policy, and research.

Discussion: The Department agrees that an equitable and unbiased education should be provided to all students, with the resources and supports they need to succeed and thrive in our society. The Department continues to work to ensure that every student feels supported in the classroom and in all educational environments. In several places, the application requires that project activities serve, and are inclusive of, all students. Additionally, selection criteria for this program will be designed to ensure equal access and treatment for eligible project participants who are members of groups that have been underrepresented based on race, color, national origin, gender, sexual orientation, age, or disability. The Department agrees that further general emphasis on equity and inclusion would be helpful and modified the application requirements to reiterate that project activities must be available and administered to all students in a manner that is equitable and inclusive, and culturally and linguistically competent.

Changes: The Department has revised (c)(2), (d)(1), and (d)(1)(i) of the application requirements to clarify that programs and practices must include interventions and activities that are available to all students in a manner that is equitable and inclusive.

Comment: Several commenters emphasized that project activities should be evidence- or research-based.

Discussion: The Department agrees that programs, practices, and treatment for mental health services should be rooted in evidence and believes the language in the final priorities can be strengthened by adding references to “evidence-based” in section (c) of the application requirements.

Changes: The Department has added “evidence-based” to application requirements (c)(2) and (c)(5).

Comments: One commenter suggested that the Department provide a template for an LEA/CBO agreement.

Discussion: We appreciate the recommendation to include a template for the MOA/MOU between LEAs and CBOs but decline to provide this type of document in the NFP. The NPP states that the MOA/MOU must clearly define the roles, responsibilities, and resources that each entity will bring to the partnership. Resources and technical assistance regarding what an MOA/MOU should contain will be provided to applicants in the Notice Inviting Applications, and the Department will provide technical assistance webinars for potential applicants. Therefore, it is not necessary to add a template for an MOA/MOU to the application requirements.

Changes: None.

Comment: One commenter suggested that there be a formal mechanism for community feedback during the selection of community partners and throughout the duration of the project. For example, the commenter suggested using qualitative data, such as a survey of families and community members, to understand the impacts of community violence and violence mitigation efforts.

Discussion: The Department appreciates this suggestion and agrees that ongoing community feedback is integral to the success of the project and facilitates successful stakeholder buy-in. The Department has modified the application requirements to require applicants to describe how they will utilize a formal mechanism for community feedback at various stages of the project.

Changes: The Department has added application requirement (b)(4), stating that applicants must describe how they will utilize a formal mechanism for community feedback during the selection process and throughout the duration of program activities.

Comments: Three commenters noted the positive impact that mentoring and peer-to-peer activities can have on reducing the harmful impacts of community violence. One commenter suggested explicitly including after-school programming and summer activities as project activities.

Discussion: The Department appreciates the project activity recommendations. We agree that mentoring, peer-to-peer activities, after-school programming, and summer activities can create positive outcomes for students impacted by community violence. Effective and engaging summer and after-school programming especially are critical to the reduction of youth involvement in community violence. Because these types of activities already are allowable under Project Prevent and applicants may propose them in their proposed grant applications, we are not making any changes in response to these comments.

Changes: None.

Comments: Two commenters suggested that greenspaces and the physical infrastructure of a community play a pivotal role in mitigating community violence.

Discussion: The Department acknowledges data showing that properly designed and maintained outdoor greenspaces and physical infrastructures have the potential to mitigate violent crime (Mardelle Shepley, 2019). Activities related to minor remodeling of greenspaces and physical infrastructures, excluding construction, are allowable activities under this program, and applicants may integrate them into their proposed grant applications. For this reason, we are not making any changes in response to these comments.

Changes: None.

Comments: One commenter suggested including measures to mitigate public sector divestment in communities plagued by violence.

Discussion: The Department recognizes the recommendation on how to further mitigate community violence. While there are a number of ways to address community violence and its impacts, we believe direct services and training are more consistent with the statutory authority for Project Prevent in 20 U.S.C. 7281(a)(1)(B), which is to provide funds for “activities to improve students' safety and well-being.”

Changes: None.

Comment: One commenter suggested prohibiting the use of corporal punishment and restraint and seclusion in project activities.

Discussion: The Department finds the use of corporal punishment to be harmful, ineffective, and often disproportionately applied to students of color and students with disabilities, and has long called on States to eliminate the practice.¹ As of 2022, the practice is illegal in 31 States and the District of Columbia.² While the Department does not have authority over State or local school discipline policies, research does not support corporal punishment, seclusion, or restraint as evidence-based practices for reducing trauma and mitigating violence. Research further shows that these ineffective practices can have lasting negative impacts on students.³ Therefore, we do not believe these methods are permissible within the range of evidence-based practices and programs described in section (e) of the application.

¹ https://www2.ed.gov/policy/gen/guid/school-discipline/files/corporal-punishment-dcl-11-22-2016.pdf.

² https://www.ncbi.nlm.nih.gov/pmc/articles/PMC5766273/.

³ Discipline | National Center on Safe Supportive Learning Environments (NCSSLE) (ed.gov).

Changes: None.

Comments: Nine commenters urged the Department to reconsider including references to law enforcement in the application requirements. These commenters noted that collaboration with law enforcement is harmful when there is a major distrust of law enforcement, especially among students of color and marginalized groups.

Discussion: The Department understands the concern raised by commenters and agrees that inclusion of law enforcement partners may not be suitable for all proposed projects. While there are projects where collaboration with law enforcement can be effective in reducing community violence, there may also be projects that choose not to partner with law enforcement based on their needs and project objectives, and as referenced by commenters, other factors and considerations. These are decisions that are best made at the community level based on formal community feedback and by applicants. Partnerships and collaboration with law enforcement are allowable, but not required, activities under Project Prevent. The Department believes applicants are in the best position to determine whether and how a partnership with law enforcement could address the impacts of community violence in ways that develop trusting relationships and that are effective, inclusive, and free from bias, and accordingly removed the reference to law enforcement from one of the two application requirements where it was proposed, and where it remains, the activity is allowable but not required.

Changes: The Department removed the reference to law enforcement from application requirement (a)(2). Collaboration with law enforcement remains an allowable, but not required activity, in the project activity section.

Comments: One commenter suggested that law enforcement partnership be explicitly referenced in Priorities 1 and 2.

Discussion: Partnerships and collaborations with law enforcement are allowable but not required activities under Project Prevent. The Department believes the applicant is best suited to determine whether collaboration with law enforcement is appropriate, and how to utilize such a partnership to address the impacts of community violence in ways that develop trusting relationships that are effective, inclusive, and free from bias.

Changes: None.

Comments: Four commenters encouraged language that prioritizes collaboration with appropriately trained supportive services to address students' and communities' needs. Two commenters suggested that support personnel for grant activities include occupational therapists.

Discussion: Application requirements allow for the hiring and inclusion of appropriate school and support personnel to implement program activities. Applicants may propose to hire and include school and support personnel who are appropriate to their proposed grant applications. In response to the commenters' recommendations, and to ensure applicant discretion is clear, we modified the application requirements to give applicants more flexibility to choose which school and support personnel best meet their students' and communities' needs, and to take diversity and inclusion into account in planning activities and hiring staff.

Changes: We modified application requirement (c)(2) to give applicants more flexibility to choose which school and support personnel best meet their students' and communities' needs, and to take diversity and inclusion into account in planning activities and hiring staff.

Comments: Two commenters recommended requiring diversity and inclusion in the hiring and retention of culturally competent social workers, counselors, psychologists, and mental health professionals. Two additional commenters advocated for assurances concerning racial equity in hiring personnel.

Discussion: The Department agrees that any efforts to diversify project personnel can have a significant impact on the success of program activities and build relationships with students served by the program. Application requirement (c)(2) has been revised in two ways, to confirm both that applicants have the flexibility to hire appropriate school support personnel, and that staff hiring must be diverse.

Changes: The Department has added language in application requirement (c)(2) to affirm that applicants have the flexibility to improve the range, availability, and quality of culturally and linguistically competent, inclusive, and evidence-based school-based mental health services by increasing the diversity of staff positions (e.g., school and clinical psychologists, school counselors, school social workers, or occupational therapists) or other appropriate school support personnel, and by hiring diverse staff.

Definition

Comments: The Department received a number of comments on the proposed definition of “community violence.” Three commenters suggested that the proposed definition of community violence include interpersonal, familial, and self-harm acts of violence. One commenter suggested that the definition of community violence include intentional acts committed in public areas. One commenter believes the Department's definition of community violence is insufficient and suggested, instead, the World Health Organization's definition. One commenter suggested revising the definition of community violence to expressly include group-based, bias-related, and sexual violence. One commenter questioned the Department's authority to define community violence at all.

Discussion: We appreciate the recommendations regarding the definition of community violence. To more closely align our work with that of other Federal agencies, the Department acknowledges that this definition would be improved by clarifying that the definition covers intentional acts of violence committed in public areas. Self-inflicted acts of harm are not interpersonal, so they do not match a more widely understood definition of community violence. While familial violence is interpersonal and can be associated with community-level violence, familial violence alone does not amount to community violence.

Changes: The Department has modified the definition of community violence to be “exposure to intentional acts of interpersonal violence (e.g., firearm injuries, assaults, and homicides) committed in public areas by individuals outside the context of a familial or romantic relationship.”

Priority 1—Addressing the Impacts of Community Violence.

Projects that implement community- and school-based strategies to help prevent community violence and mitigate the impacts of children and youth's exposure to community violence in collaboration with local CBOs (e.g., local civic or community service organizations, local faith-based organizations, or local foundations or nonprofit organizations) and include community and family engagement in the implementation of the strategies.

Priority 2—Established Partnership with a Local Community-Based Organization.

An application that includes at least one MOA or MOU signed by the authorized representative of a local community-based organization (as defined in section 8101(5) of the ESEA) that agrees to partner with the applicant on the proposed project and provide resources or administer services that are likely to substantially contribute to positive outcomes for the proposed project. The MOA or MOU must clearly delineate the roles and responsibilities of each entity.

Priority 3—Supporting Children and Youth from Low-Income Backgrounds.

In its application, an applicant must demonstrate, based on SAIPE data from the U.S. Census Bureau or, for an LEA for which SAIPE data are not available, the same State-derived equivalent of SAIPE data that the State uses to make allocations under part A of title I of the ESEA, one or more of the following:

(a) At least 20 percent of the students enrolled in the LEA to be served by the proposed project are from families with an income below the poverty line.

(b) At least 25 percent of the students enrolled in the LEA to be served by the proposed project are from families with an income below the poverty line.

(c) At least 30 percent of the students enrolled in the LEA to be served by the proposed project are from families with an income below the poverty line.

(d) At least 35 percent of the students enrolled in the LEA to be served by the proposed project are from families with an income below the poverty line.

(e) At least 40 percent of the students enrolled in the LEA to be served by the proposed project are from families with an income below the poverty line.

(f) At least 45 percent of the students enrolled in the LEA to be served by the proposed project are from families with an income below the poverty line.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority we are particularly interested in applications that meet the priority. However, we do not give an application that meets the priority a preference over other applications (34 CFR 75.105(c)(1)).

Requirements

The following are one program requirement and several application requirements for this program. We may apply one or more of these requirements in any year in which the program is in effect.

Program Requirement:

Eligible Applicants: Eligible applicants for this program are LEAs, as defined in 20 U.S.C. 7801(30).

Application Requirements:

(a) Severity and magnitude of the problem; identification of schools to be served by the proposed project. Applicants must—

(1) Identify the schools proposed to be served by project activities;

(2) Collaborate and coordinate with CBOs to describe the community violence that affects students in those schools utilizing data such as incidents of community violence, gun crime, and other violent crime, rates of child abuse and neglect, and other school and community crime and safety data, including on a per capita basis (such as homicides per 100,000 persons); prevalence of risk factors associated with violence-related injuries and deaths; findings from student mental health screenings or assessments, school climate surveys, and student engagement surveys; demographic data provided by U.S. Census surveys; and other relevant data and information; and

(3) Provide a comparison of the school and community data cited to similar data at the State or local level, if available.

(b) Collaboration and coordination with community-based organizations. Applicants must—

(1) Describe how they intend to work collaboratively with CBOs to achieve project goals and objectives;

(2) Provide evidence of collaboration and coordination through letters of support, MOAs, or MOUs from at least one CBO;

(3) Describe how they will use grant program funds to supplement, rather than supplant, existing or new efforts to reduce community violence and mitigate the direct and indirect effects of community violence on students; and

(4) Describe how they utilized a formal mechanism (e.g., surveys of families and community members) to obtain community feedback during the process of identifying CBOs with which to partner or collaborate, and the formal mechanism that will be utilized throughout the duration of the project to gather feedback on the impact of project activities.

(c) Project activities. Applicants must propose to conduct three or more of the following:

(1) Appropriately tailored professional development opportunities for LEA and school mental health staff (e.g., counselors, psychologists, and social workers); other specialized instructional support personnel; and other school staff, as appropriate, on how to screen for and respond to violence-related trauma and implement appropriate school-based interventions to help prevent community violence and mitigate the impacts of children's and youth's exposure to community violence.

(2) Activities designed to improve the range, availability, and quality of culturally and linguistically competent, inclusive, and evidence-based school-based mental health services by increasing the number and diversity of staff positions (e.g., school and clinical psychologists, school counselors, school social workers, or occupational therapists) or other appropriate school support personnel, and by hiring staff who are diverse and reflective of the community, with expertise or training in violence prevention, trauma-informed care, and healing-centered strategies, and who are qualified to respond to the mental and behavioral health needs of students who have experienced trauma as a result of exposure to community violence.⁴

⁴ All strategies to increase the diversity of providers must comply with applicable Federal civil rights laws, including Title VI of the Civil Rights Act of 1964.

(3) Training for school staff (e.g., teachers, administrators, specialized instructional support personnel, and support staff), community partners, youth, and families on the effects of exposure to community violence, the importance of screening students, how to screen students exposed to community violence in a manner that minimizes and eliminates bias and stereotypes, and how to provide interventions.

(4) Developing or improving processes to better target services to students who are exposed to community violence and to assess such students who may be experiencing mental, social, emotional, or behavioral challenges as a result of this exposure.

(5) Enhancing linkages between LEA mental health services and community mental health systems to help ensure affected students receive referrals to treatment that is culturally and linguistically competent and evidence-based, as appropriate.

(6) Undertaking activities in collaboration and coordination with law enforcement to address community violence affecting students, to support victims' rights, and to promote public safety.

(d) Evidence-based, culturally and linguistically competent, and developmentally appropriate programs and practices. Applicants must—

(1) Describe the continuum of evidence-based, culturally and linguistically competent, and developmentally appropriate (as defined in 34 CFR 77.1(c)) programs and practices that will be implemented at the school and community levels and how these programs and practices will be organized to provide differentiated support based on student need in an equitable and inclusive manner, free from bias, to help break the cycle of community violence. These programs and practices must include all of the following:

(i) Interventions and activities that are available to all students in a school, in a manner that is equitable and inclusive, with the goal of preventing negative or violent behavior (such as harassment, bullying, fighting, gang participation, sexual assault, and substance use) and enhancing student knowledge and interpersonal and emotional skills regarding positive behavior (such as communication and problem-solving, empathy, and conflict management, de-escalation, and mediation).

(ii) Interventions and activities related to positive coping techniques, anger management, conflict management, de-escalation, mediation, promotion of positive behavior, and development of protective factors.

(iii) Interventions and services, such as mentorship programming, that target individual students who are at a higher risk for committing or being a victim of violence.

(2) Describe the research and evidence supporting the proposed programs and practices and the expected effects on the target population.

(e) Framework for planning, implementation, and sustainability. Applicants must—

(1) Describe how the proposed project is integrated and aligned with the mission and vision of the LEA, including a description of the relationship of the project to the LEA's existing school safety or related plan;

(2) Describe the anticipated challenges to success of the project and how they will be addressed, such as sustaining project implementation beyond the availability of grant funds and mitigating turnover at the LEA leadership, school leadership, and staff levels; and

(3) Include a timeline of activities for—

(i) Planning that includes conducting a needs assessment that is comprehensive and examines areas for improvement, both within the school and the community, related to learning conditions that create a safe and healthy environment for students; creating a logic model (as defined in 34 CFR 77.1); completing resource mapping; selecting evidence-based, culturally and linguistically competent, and developmentally appropriate programs; developing evaluation plans; and engaging community and school partners, families, and other stakeholders;

(ii) Implementation that includes training on and execution of evidence-based, culturally and linguistically competent, and developmentally appropriate programs; continuing engagement with stakeholders; communicating and collaborating strategically with community partners; and evaluating program implementation; and

(iii) Sustainability that includes further developing and expanding on the project's successes beyond the end of the grant, at the school and community levels, in alignment with other related efforts.

(f) Planning period. Projects funded under this program may use up to 12 months during the first year of the project period for program planning. Applicants that propose a planning period must provide sufficient justification for why this program planning time is necessary, provide the intended outcomes of program planning in Year 1, and include a description of the proposed strategies and activities to be supported.

Final Definition

The Department establishes a definition of “community violence” for use in this program. We may apply it in any year in which this program is in effect.

Community violence is intentional acts of interpersonal violence (e.g., firearm injuries, assaults, and homicides) committed in public areas by individuals outside the context of a familial or romantic relationship.

This notice does not preclude us from proposing additional priorities, requirements, definitions, or selection criteria, subject to meeting applicable rulemaking requirements.

Note: This notice does not solicit applications. In any year in which we choose to use these priorities, requirements, and definition, we invite applications through a notice in the Federal Register.

Executive Orders 12866 and 13563

Regulatory Impact Analysis

Under Executive Order 12866, it must be determined whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This regulatory action is not a significant regulatory action subject to review by OMB under section 3(f) of Executive Order 12866.

We have also reviewed this regulatory action under Executive Order 13563, which supplements and explicitly reaffirms the principles, structures, and definitions governing regulatory review established in Executive Order 12866. To the extent permitted by law, Executive Order 13563 requires that an agency—

(1) Propose or adopt regulations only on a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing the final priorities, requirements, and definition only on a reasoned determination that their benefits would justify their costs. In choosing among alternative regulatory approaches, we selected those approaches that would maximize net benefits. Based on an analysis of anticipated costs and benefits, we believe that the priorities, requirements, and definition are consistent with the principles in Executive Order 13563.

We also have determined that this final regulatory action does not unduly interfere with State, local, and Tribal governments in the exercise of their governmental functions.

In accordance with the Executive orders, the Department has assessed the potential costs and benefits, both quantitative and qualitative, of this final regulatory action. The potential costs are those resulting from statutory requirements and those we have determined as necessary for administering the Department's programs and activities.

Potential Costs and Benefits

The Department believes that this final regulatory action would not impose significant costs on eligible entities, whose participation in our programs is voluntary, and costs can generally be covered with grant funds. As a result, the priorities, requirements, and definition would not impose any particular burden except when an entity voluntarily elects to apply for a grant. The priorities, requirements, and definition would help ensure that the Project Prevent grants program selects high-quality applicants to implement activities that meet the goals of the program. We believe these benefits would outweigh any associated costs.

Regulatory Flexibility Act Certification

The Secretary certifies that this final regulatory action would not have a significant economic impact on a substantial number of small entities. The U.S. Small Business Administration Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000.

The small entities that this final regulatory action would affect are LEAs. Of the impacts we estimate accruing to grantees or eligible entities, all are voluntary. Therefore, we do not believe that the final priorities, requirements, and definition would significantly impact small entities beyond the potential for increasing the likelihood of their applying for, and receiving, competitive grants from the Department.

Paperwork Reduction Act

The final priorities, requirements, and definition do not contain any information collection requirements.

Intergovernmental Review: This program is subject to Executive Order 12372 and the regulations in 34 CFR part 79. One of the objectives of the Executive Order is to foster an intergovernmental partnership and a strengthened federalism. The Executive order relies on processes developed by State and local governments for coordination and review of proposed Federal financial assistance. This document provides early notification of our specific plans and actions for this program.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site, you can view this document, as well as all other documents of the Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

James F. Lane,
Senior Advisor, Office of the Secretary Delegated the Authority to Perform the Functions and Duties of the Assistant Secretary Office of Elementary and Secondary Education.

[FR Doc. 2022-17934 Filed 8-18-22; 8:45 am]

BILLING CODE 4000-01-P